DEPARTMENT OF THE TREASURY

Office of Thrift Supervision

[AC-06: OTS Nos. 00803, H-3845 and H-4256]

Enfield Federal Savings and Loan Association, Enfield Mutual Holding Company, and NEBS Bancshares, Inc., Enfield, CT; Approval of Conversion Application

Notice is hereby given that on November 10, 2005, the Assistant Managing Director, Examinations and Supervision—Operations, Office of Thrift Supervision (“OTS”), or her designee, acting pursuant to delegated authority, approved the application of Enfield Federal Savings and Loan Association and Enfield Mutual Holding Company, Enfield, Connecticut, to convert to the stock form of organization. Copies of the application are available for inspection by appointment (phone number: (202) 906-5922 or e-mail: Public.Info@OTS.Treas.gov) at the Public Reading Room, OTS, 1700 G Street, NW., Washington, DC 20552, and OTS Northeast Regional Office, Harborside Financial Center Plaza Five, Suite 1600, Jersey City, New Jersey 07311.

Dated: December 8, 2005.
By the Office of Thrift Supervision.
Nadine Y. Washington,
Corporate Secretary.

[FR Doc. 05-24008 Filed 12-13-05; 8:45 am]

BILLING CODE 6720-01-M